DEPARTMENT OF TRANSPORTATION

Research and Special Programs Administration

Office of Hazardous Materials Safety; Notice of Applications for Modification of Exemptions

AGENCY: Research and Special Programs Administration, DOT.

ACTION: List of applications for modification of exemptions.

SUMMARY: In accordance with the procedures governing the application for, and the processing of, exemptions from the Department of Transportation's Hazardous Materials Regulations (49 CFR part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g., to provide for additional hazardous materials, packaging design changes, additional mode of transportation, etc.) are described in footnotes to the application number. Application numbers with the suffix “M” denote a modification request. These applications have been separated from the new applications for exemptions to facilitate processing.

DATES: Comments must be received on or before January 10, 2003.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemptions is published in accordance with Part 107 of the Federal hazardous materials transportation law (49 U.S.C. 5117(b); 49 CFR 1.53(b)).

Issued in Washington, DC, on December 19, 2002.
R. Ryan Posten,
Exemptions Program Officer, Office of Hazardous Materials, Exemptions and Approvals.

Application No. | Docket No. | Applicant | Modification of exemption
8554-M |  | American West Explosives, Inc., Springfield, MO (See Footnote 1) | 8554
9778-M |  | Baker Atlas, Houston, TX (See Footnote 2) | 9778
9929-M |  | Orbital Sciences Corporation, Dulles, VA (See Footnote 3) | 9929
11194-M |  | Carleton Technologies, Inc. (Pressure Tech. Div.), Glen Burnie, MD (See Footnote 4) | 11194
11380-M |  | Baker Atlas (Houston Technology Ctr), Houston, TX (See Footnote 5) | 11380
12056-M | RSPA-98-3730 | Department of Defense (MTMC), Fort Eustis, VA (See Footnote 6) | 12056
12102-M | RSPA-98-4005 | Roche Diagnostics Corporation, Indianapolis, IN (See Footnote 7) | 12102
12130-M | RSPA-98-4386 | FIBA Technologies, Inc., Westboro, MA (See Footnote 8) | 12130
13102-M | RSPA-02-13784 | Watts Regulator Company, North Andover, MA (See Footnote 9) | 13102
13127-M | RSPA-02-13477 | American Pacific Corporation, Cedar City, UT (See Footnote 10) | 13127
¹ To modify the exemption to authorize the transportation of a Class 8 material in a specialized container mounted on a bulk truck.
² To modify the exemption to authorize the transportation of an additional Class 7 material in non-DOT specification packaging.
³ To modify the exemption to update the list of authorized transporters and airports for the transportation of certain Division 1.3C materials in unauthorized packaging that exceed the quantity limitation.
⁴ To modify the exemption to authorize utilization of an S-Glass outer overwrap for the non-DOT specification fiber reinforced plastic full composite cylinders transporting certain Division 2.1 and 2.2 gases.
⁵ To modify the exemption to authorize changes to an existing tank design assembly and the addition of a new tank design for the transportation of Division 2.1 materials.
⁶ To modify the exemption to authorize two additional destination facilities and authorize an increased number of round trip shipments containing Division 2.3 and 6.1 materials.
⁷ To modify the exemption to authorize transportation by common or contract carrier of certain unapproved Class 1 explosive materials desensitized by wetting with water, alcohol or other suitable diluent so as to eliminate their explosive properties.
⁸ To modify the exemption to authorize optional inspection access hole (manholes) for the non-DOT specification insulated portable tanks transporting certain Division 2.2 materials.
⁹ To reissue the exemption originally issued on an emergency basis for the transportation of certain non-DOT specification packagings, described as actuators, charged with limited quantities of various hazardous materials.
¹⁰ To reissue the exemption originally issued on an emergency basis for the transportation of certain Division 5.1 materials in lined flexible intermediate bulk containers (FIBC).

[FR Doc. 02-32525 Filed 12-24-02; 8:45 am]

BILLING CODE 4910-60-M